DEPARTMENT OF DEFENSE

Department of the Army; Corps of Engineers

Intent To Prepare a Draft Environmental Impact Statement on the Future Dredging of Capron Shoal for the Fort Pierce Shore Protection Project in St. Lucie County, FL

AGENCY: Department of the Army, U.S. Army Corps of Engineers, DoD.

ACTION: Notice of intent.

SUMMARY: The U.S. Army Corps of Engineers (Corps) Jacksonville District intends to prepare a Draft Environmental Impact Statement (DEIS) for further dredging at Capron Shaol to renourish the Fort Pierce Shore Protection Project (SPP) in St. Lucie County, FL.

FOR FURTHER INFORMATION CONTACT: Mr. William J. Lang Jr., U.S. Army Corps of Engineers, Planning Division, Environmental Branch, PO Box 4970, Jacksonville, FL, 32232-0019, by e-mail William.j.lang@usace.army.mil, or by telephone at 904-232-2615.

SUPPLEMENTARY INFORMATION:

a. Project background and Authorization. Fort Pierce Inlet, originally cut by local interests in 1921, affects the littoral transport of sand north and south of the inlet. The north has accreted while there's been a significant loss of sand to the south. Accordingly, the Fort Pierce SPP, authorized by the River and Harbor Act of 1965, provided for restoration of 1.3 miles of shoreline south of Fort Pierce Inlet and for subsequent periodic renourishment as needed. Since 1971 more than 2 million cubic yards (cy) of beach nourishment and maintenance dredge sand has been placed on the beach. The project provides for a fifty-foot protective berm extending 1.3 miles south of Fort Pierce Inlet. Extension of the project an additional one mile has been addressed in the Environmental Assessment (EA) dated August 1998. Groins are being considered for the eroding area south of the inlet and will be addressed in an EA.

b. Need or Purpose. This Environmental Impact Statement (EIS) evaluates the potential impacts of further dredging of Capron Shoal. The environmental analysis will incorporate the results of studies/surveys of bryozoans, reef (hard bottom) and borrow area impacts. This EIS fulfills term and condition 4 of the March 12, 1999 Joint Stipulation for Entry of Dismissal of the Case Winston, et al., vs. Lt. Gen. Ballard.

c. Proposed Solution and Forecast completion Date. Sand dredged from Capron Shoal would be used for placement on the Ft. Pierce Beach SPP as needed and appropriate.

d. Prior EAs, EISs. EAs were completed in 1998; 1993-revised 94 & 95 and in 1978 specifically for the nourishment of Ft. Pierce Beach SPP. In addition to National Environmental Policy Act (NEPA) documents prepared specifically for the Ft. Pierce Beach SPP; a 1993 EIS associated with the widening/deepening of the Ft. Pierce navigation channel; and, EAs for channel maintenance dredging were also prepared when sand from the channel was to be placed on Fort Pierce Beach.

e. Alternatives. A reevaluation of alternatives, including structural alternatives to minimize the frequency and extent of dredging and beach placement will be done. Alternatives will include the No Action alternative. This EIS will analyze reasonable alternatives to dredging at Capron Shoal, including potential alternatives that would avoid or minimize the need for dredging.

f. Issues. Those issues identified in b above shall be addressed in depth as well as the effects on Federally listed threatened and endangered species, essential fish habitat and community response to beach restoration impacts. Additionally, health and safety, water quality, aesthetics and recreation, fish and wildlife resources, cultural resources, energy conservation, socio-economic resources, and other impacts identified through scoping, public involvement, and interagency coordination will be discussed.

g. Scoping Process. A scoping meeting is not scheduled. The public will be involved in the planning process through mail solicitations and advisements. As a minimum, all parties who have expressed interest in the Fort Pierce SPP will be invited to participate in the planning process. Federal, state and local agencies, and other interested groups will also be involved. Meetings to address discrete issues or parts or functions of the study area may be called.

h. Public Involvement. We invite the participation of affected Federal, state and local agencies, other interested private organizations, parties and the public.

i. Coordination. The proposed action is being coordinated with the U.S. Fish and Wildlife Service (FWS) and the National Marine Fisheries Service (NMFS) under Section 7 of the Endangered Species Act, with the NMFS concerning Essential Fish Habitat and with the State Historic Preservation Officer.

j. Other Environmental Review and Consultation. The proposed action would involve evaluation for compliance with guidelines pursuant to section 404(b) of the Clean Water Act; application (to the State of Florida) for Water Quality Certification pursuant to section 401 of the Clean Water Act; certification of state lands, easements, and rights of way; and determination of Coastal Zone Management Act consistency.

k. Agency Role. The Corps and the non-Federal sponsor, St. Lucie County, will provide extensive information and assistance on the resources to be impacted, mitigation measures, and alternatives.

l. DEIS Preparation. It is estimated that the DEIS will be available to the public on or about June 2002.

Dated: May 21, 2002.
James C. Duck,
Chief, Planning Division.

[FR Doc. 02-13682 Filed 5-30-02; 8:45 am]

BILLING CODE 3710-AJ-M